DEPARTMENT OF AGRICULTURE

Animal and Plant Health Inspection Service

7 CFR Part 330

[Docket No. 02-011-1]

Redelivery of Cargo for Inspection

AGENCY: Animal and Plant Health Inspection Service, USDA.

ACTION: Proposed rule.

SUMMARY: We are proposing to amend the regulations pertaining to the inspection of cargo entering the United States to provide that inspectors from the Animal and Plant Health Inspection Service (APHIS) may require that cargo be returned to the port of first arrival or, if convenient, another location as specified by APHIS for inspection when necessary. All cargo is subject to inspection at the port of first arrival by an APHIS inspector and is not supposed to be removed from that port before the inspector releases it; however, for a variety of reasons, cargo is sometimes moved from the port of first arrival prior to inspection by APHIS. In these situations, APHIS inspectors must request that the U.S. Customs Service act on their behalf and order the cargo returned to the port for inspection. Amending the regulations would allow APHIS inspectors to deal directly with owners, shippers, brokers, and their agents and would increase the efficiency of both APHIS and the Customs Service by simplifying the current system.

DATES: We will consider all comments that we receive on or before August 19, 2002.

ADDRESSES: You may submit comments by postal mail/commercial delivery or by e-mail. If you use postal mail/commercial delivery, please send four copies of your comment (an original and three copies) to: Docket No. 02-011-1, Regulatory Analysis and Development, PPD, APHIS, Station 3C71, 4700 River Road Unit 118, Riverdale, MD 20737-1238. Please state that your comment refers to Docket No. 02-011-1. If you use e-mail, address your comment to regulations@aphis.usda.gov. Your comment must be contained in the body of your message; do not send attached files. Please include your name and address in your message and “Docket No. 02-011-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Ms. Pamela Byrne, Senior Staff Officer, Port Operations, PPQ, APHIS, 4700 River Road Unit 147, Riverdale, MD 20737-1231; (301) 734-5242.

SUPPLEMENTARY INFORMATION:

Background

The purpose of the regulations in 7 CFR part 330 (referred to below as the regulations) is to prevent the dissemination of plant pests into the United States, or interstate, by regulating the movement of plant pests into or through the United States, or interstate, and the movement of means of conveyance; earth, stone, and quarry products; garbage; and certain other products and articles into or through the United States.

The regulations in § 330.105(a) deal with the inspection of cargo (means of conveyance, articles, and products) arriving from outside the United States at ports of first arrival in the United States. Currently, § 330.105(a) provides that such cargo is subject to inspection by an Animal and Plant Health Inspection Service (APHIS) inspector at the port of first arrival in the United States and that the cargo must not be released by U.S. Customs Service officers for entry or onward movement until released by the APHIS inspector. For a variety of reasons, however, cargo is sometimes moved from the port of first arrival before inspection by the APHIS inspector. In these situations, the APHIS inspector must request that the U.S. Customs Service act on his or her behalf and order that the cargo be returned to the port for inspection.

We are proposing to amend the regulations in § 330.105(a) to provide that an APHIS inspector could require the return of cargo to the port of first arrival or if convenient, another location as specified by APHIS for inspection if the cargo has been moved prior to inspection by APHIS. Amending the regulations in this way would simplify the system by allowing APHIS inspectors to deal directly with owners, shippers, brokers, and their agents, thus increasing the efficiency of both APHIS and the U.S. Customs Service.

Miscellaneous Changes

The definition for Customs in § 330.100 contains an outdated reference to the Bureau of Customs, which is now the U.S. Customs Service. We propose to correct this reference in this document. Also, another outdated term, “Collector of Customs,” appears in §§ 330.104 and 330.105(a). We are also proposing to remove that term each time it appears.

Section 330.104 also contains references to specific sections of the Customs Service's regulations in title 19 that have been redesignated since § 330.104 was established. We propose to amend § 330.104 to reflect these changes.

Finally, we are proposing to amend the definition of inspector for consistency with the definition of that term in other parts of our regulations in title 7.

Executive Order 12866 and Regulatory Flexibility Act

This proposed rule has been reviewed under Executive Order 12866. The rule has been determined to be not significant for the purposes of Executive Order 12866 and, therefore, has not been reviewed by the Office of Management and Budget.

The changes to the regulations contained in this proposed rule are administrative in nature and are not expected to have an economic effect on any entities, large or small. These changes would simply allow APHIS inspectors to deal directly with owners, shippers, brokers, and their agents to order the return of cargo that has been moved from the port of first arrival without APHIS inspection. Currently, in such situations, APHIS inspectors must request that the U.S. Customs Service act on their behalf and order the cargo to be returned to the port for inspection. This proposed rule would increase the efficiency of both APHIS and the Customs Service by simplifying the current system.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

List of Subjects in 7 CFR Part 330

Customs duties and inspection, Imports, Plant diseases and pests, Quarantine, Reporting and recordkeeping requirements, Transportation.

Accordingly, we propose to amend 7 CFR part 330 as follows:

PART 330—FEDERAL PLANT PEST REGULATIONS; GENERAL; PLANT PESTS; SOIL, STONE, AND QUARRY PRODUCTS; GARBAGE

1. The authority citation for part 330 would continue to read as follows:

Authority: 7 U.S.C. 450, 2260, 7711, 7712, 7714, 7718, 7731, 7734, 7751, and 7754; 19 U.S.C. 1306; 21 U.S.C. 111, 114a, 136, and 136a; 31 U.S.C. 9701; 42 U.S.C. 4331 and 4332; 7 CFR 2.22, 2.80, and 371.3.

§ 330.100 [Amended]

2. Section 330.100 would be amended as follows:

a. In the definition of Customs, by removing the words “Bureau of Customs” and adding the words “U.S. Customs Service” in their place.

b. In the definition of Inspector, by adding the words “Animal and Plant Health Inspection Service,” before the word “U.S.” and by adding a comma after the word “Agriculture”.

3. In § 330.104, the second and third sentences would be revised to read as follows:

§ 330.104 Ports of entry.

* * * Such ports shall be selected by the Deputy Administrator from ports named in 19 CFR 101.3 as “ports of entry” for the purpose of enforcing the customs laws or named in 19 CFR 122.13 as “international airports,” or airports at which permission to land aircraft has been granted by the Commissioner of Customs in accordance with 19 CFR 122.14. Except as otherwise provided by administrative instructions, or by permits issued in accordance with this part, the ports of entry shall be those named in 19 CFR 101.3 and 122.13. * * *

4. In § 330.105, paragraph (a) would be amended by adding a new sentence after the second sentence following the paragraph heading to read as follows and, in the last sentence, by removing the words “the Collector of”.

§ 330.105 Inspection.

(a) Inspection of foreign arrivals. * * * If any means of conveyance, product, or article subject to inspection under this section is released before the inspector has had the opportunity to inspect it, the inspector may require the owner, shipper, broker or his or her agent to return the means of conveyance, product, or article to the port of first arrival or, if mutually convenient, another location as specified by APHIS for inspection. * * *

* * * * *

Done in Washington, DC, this 14th day of June 2002.
Peter Fernandez,
Acting Administrator, Animal and Plant Health Inspection Service.

[FR Doc. 02-15585 Filed 6-19-02; 8:45 am]

BILLING CODE 3410-34-P